DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Grantee Data Technical Assistance (GDTA) Training Needs Assessment Survey for SAMHSA Grantees-NEW

In 2014, the Center for Behavioral Health Statistics and Quality (CBHSQ) funded the GDTA contract to provide training and technical assistance to all grantees receiving funding from the Center for Substance Abuse Treatment (CSAT), the Center for Mental Health Services (CMHS), and some grantees receiving funding from the Center for Substance Abuse Prevention (CSAP) that fall under the GDTA contract. This currently only includes discretionary grants but is expected to include block grants in future years. Training and technical assistance from the GDTA contract will focus on helping grantees use their Government and Performance Results Act of 1993 (GPRA) data for performance management and monitoring, and services improvement. The information being collected in this needs assessment will inform CBHSQ regarding the types of activities SAMHSA's grants use their funding for and what types of training activities they would like to receive in the future.

Description of Forms: Forms will include two questions. The first question asks about the services provided under the grant. Answer options include activities such as behavioral health care services, screening, prevention activities, and services to specific populations. The second question asks respondents to identify topics for training and technical assistance they would like to receive from a pre-populated list. Answer options include items such as data collection, data entry, and using data in creative ways. Both questions have an option for respondents to write-in an answer that is not included in the list.

Description of Respondents: The respondent universe for this data collection effort is one Project Director from each SAMHSA-funded grants being served by the GDTA contract. This currently only includes discretionary grants but is expected to include block grants in future years. There are currently 2,670 SAMHSA-funded discretionary grants served by the GDTA contract, therefore this is the number of respondents expected for this data collection effort.

Table 1—Annual Burden Estimate
Form name | Number of respondents | Annual responses per respondent | Total annual responses | Hours per response | Total annual hour burden
Grantee Needs Assessment | 2,670 | 1 | 2,670 | 0.1 | 267

Written comments and recommendations concerning the proposed information collection should be sent by April 22, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-06532 Filed 3-20-15; 8:45 am]

BILLING CODE 4162-20-P